INTERNATIONAL TRADE COMMISSION

[Investigation No. 337-TA-1209 (Enforcement)]

Certain Movable Barrier Operator Systems and Components Thereof; Notice of Commission Decision Not To Review an Initial Determination Terminating the Enforcement Proceeding Based on Settlement; Termination of the Proceeding

AGENCY: U.S. International Trade Commission.

ACTION: Notice.

SUMMARY: Notice is hereby given that the U.S. International Trade Commission has determined not to review an initial determination (“ID”) (Order No. 26) of the presiding Administrative Law Judge (“ALJ”) terminating the enforcement proceeding based on settlement. The enforcement proceeding is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On August 10, 2020, the Commission instituted an investigation under section 337 of the Tariff Act of 1930, as amended, 19 U.S.C. 1337 (“section 337”), based on a complaint filed by Overhead Door Corporation of Lewisville, Texas and GMI Holdings Inc. of Mount Hope, Ohio (collectively, “Overhead Door”). See 85 FR 48264-65 (Aug. 10, 2020). The complaint, as supplemented, alleged a violation of section 337 based upon the importation into the United States, the sale for importation, and the sale within the United States after importation of certain movable barrier operator systems and components thereof by reason of infringement of U.S. Patent Nos. 8,970,345 (“the '345 patent”); 7,173,516 (“the '516 patent”); 7,180,260 (“the '260 patent”); 9,483,935 (“the '935 patent”); 7,956,718 (“the '718 patent”); and 8,410,895 (“the '895 patent”). See id. The notice of investigation named The Chamberlain Group, Inc. (now, The Chamberlain Group, LLC) of Oak Brook, Illinois (“Chamberlain”) as the respondent in this investigation. See id.

On February 10, 2021, the Commission terminated the investigation as to the '516 patent based on the withdrawal of the allegations in the complaint as to that patent. See Order No. 10 (Jan. 19, 2021), unreviewed by Comm'n Notice (Feb. 10, 2021).

On February 9, 2022, the Commission issued a final determination finding a violation of section 337, based on Chamberlain's infringement of the asserted claims of the '935, '718, and '895 patents, but not the '345 and '260 patents. See 87 FR 8605-06 (Feb. 15, 2022). The Commission further determined to: (1) issue a limited exclusion order against Chamberlain's infringing products and a cease and desist order against Chamberlain (collectively, the “remedial orders”); and (2) set a bond during the period of Presidential review in the amount of one hundred (100) percent of the entered value of the infringing articles. See id. On March 30, 2022, the Commission issued modified remedial orders to confirm that the covered products or articles in the remedial orders include garage door openers, gate operators, and commercial operators. See 87 FR 19709-10 (Apr. 5, 2022).

On April 11 and 12, 2022, respectively, Overhead Door and Chamberlain filed appeals from the Commission's final determination with the U.S. Court of Appeals for the Federal Circuit. See Chamberlain Grp., LLC v. ITC, Appeals Nos. 22-1664, 22-1656 (consolidated).

On August 5, 2022, the Commission instituted an enforcement proceeding under Commission Rule 210.75 (19 CFR 210.75) to investigate alleged violations of the remedial orders by Chamberlain's legacy and redesigned products. See 87 FR 48039 (Aug. 5, 2022). In addition to Overhead Door and Chamberlain (collectively, “the Private Parties”), the Office of Unfair Import Investigations (“OUII”) was also named as a party to the enforcement proceeding. See id.

On December 21, 2022, the Commission terminated the enforcement proceeding as to the '718 patent based on withdrawal of the enforcement complaint as to that patent. See Order No. 14 (Dec. 1, 2022), unreviewed by Comm'n Notice (Dec. 21, 2022).

On June 13, 2023, the parties filed a joint stipulation of voluntary dismissal of the appeals. On June 14, 2023, the Federal Circuit dismissed the appeals. See Chamberlain Grp., LLC v. ITC, Order, Appeal No. 22-1664, ECF No. 95 (Fed. Cir. June 14, 2023).

On June 13, 2023, the Private Parties jointly moved to terminate the enforcement proceeding based on settlement. The joint motion states that OUII supports the motion.

On June 14, 2023, the ALJ issued the subject ID (Order No. 26) granting the joint motion to terminate the enforcement proceeding based on settlement. The ID finds that the joint motion complies with Commission Rule 210.21(b)(1), 19 CFR 210.21(b)(1). See ID at 2-3. Specifically, the ID notes that the joint motion includes confidential and public copies of the settlement agreement. See id. at 2. In addition, the motion states that “there are no other agreements, written or oral, express or implied, between the Private Parties concerning the subject matter of this proceeding.” See id. Furthermore, in accordance with Commission Rule 210.50(b)(2), 19 CFR 210.50(b)(2), the ID finds “no evidence that terminating this proceeding on the basis of settlement would adversely affect” the public interest. See id. at 3.

No petition for review of the subject ID was filed.

The Commission has determined not to review the subject ID. The enforcement proceeding is terminated.

The Commission's vote on this determination took place on July 12, 2023.

The authority for the Commission's determination is contained in section 337 of the Tariff Act of 1930, as amended (19 U.S.C. 1337), and in part 210 of the Commission's Rules of Practice and Procedure (19 CFR part 210).

By order of the Commission.
Issued: July 12, 2023.
Lisa Barton,
Secretary to the Commission.

[FR Doc. 2023-15119 Filed 7-17-23; 8:45 am]

BILLING CODE 7020-02-P